DEPARTMENT OF ENERGY

Federal Energy Regulatory Commission

[Docket No. TS15-2-000]

The City of Independence, Missouri; Notice of Filing

Take notice that on August 19, 2015, pursuant to 18 CFR 35.28(e)(2) and 358.1(d) and Rules 101(e) and 207 of the Federal Energy Regulatory Commission's (Commission) Rules of Practice and Procedure,¹ the City of Independence, Missouri filed a petition requesting that the Commission waive reciprocity-based standards of conduct and Open Access Same-Time Information System (OASIS) requirements that might otherwise apply under Order Nos. 889 ² and 717.³

¹ 18 CFR 385.101(e), 385.207.

² Open Access Same-Time Information System (formerly Real-Time Information Networks) and Standards of Conduct, Order No. 889, 61 FR 21,737 (May 10, 1996), FERC Stats. & Regs. ¶ 31,035 (1996), clarified, 76 FERC ¶ 61,009 (1996), modified, Order No. 889-A, 62 FR 12,484 (Mar. 14, 1997), FERC Stats. & Regs. ¶ 31,049 (1997), reh'g denied, Order No. 889-B, 62 FR 64,715 (Dec. 9, 1997), 81 FERC ¶ 61,253 (1997), aff'd in part and remanded in part sub nom. Transmission Access Policy Study Grp. v. FERC, 225 F.3d 667 (D.C. Cir. 2000), aff'd sub nom. New York v. FERC, 535 U.S. 1 (2002).

³ Standards of Conduct for Transmission Providers, Order No. 717, 73 FR 63,796 (Oct. 27, 2008), FERC Stats. & Regs. ¶ 31,280 (2008), on reh'g, Order No. 717-A, 74 FR 54,463 (Oct. 22, 2009), FERC Stats. & Regs. ¶ 31,297 (2009), clarified, Order No. 717-B, 74 FR 60,153 (Nov. 20, 2009), 129 FERC ¶ 61,123 (2009), on reh'g, Order No. 717-C, 75 FR 20,909 (Apr. 22, 2010), 131 FERC ¶ 61,045 (2010), on reh'g and clarification, Order No. 717-D, 76 FR 20,838 (Apr. 14, 2011), 135 FERC ¶ 61,017 (2011).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on December 8, 2015.

Dated: November 17, 2015.
Nathaniel J. Davis, Sr.,
Deputy Secretary.

[FR Doc. 2015-29757 Filed 11-20-15; 8:45 am]

BILLING CODE 6717-01-P